DEPARTMENT OF ENERGY

Federal Energy Regulatory Commission

[Docket No. CP07-430-000]

Kinder Morgan Interstate Gas Transmission, LLC; Notice of Availability of the Environmental Assessment for the Proposed Colorado Lateral Expansion Project

January 11, 2008.

The staff of the Federal Energy Regulatory Commission (FERC or Commission) has prepared an environmental assessment (EA) on the natural gas pipeline facilities proposed by Kinder Morgan Interstate Gas Transmission, LLC (Kinder Morgan) in the above-referenced docket. Kinder Morgan's proposal (the Colorado Lateral Expansion Project) is to construct about 41.4 miles of 12-inch-diameter pipeline in Weld County, Colorado.

The EA was prepared to satisfy the requirements of the National Environmental Policy Act of 1969. The staff concludes that approval of the proposed project, with appropriate mitigating measures, would not constitute a major federal action significantly affecting the quality of the human environment.

The EA assesses the potential environmental effects of the construction and operation of the proposed Colorado Lateral Expansion Project, as well as five lateral distribution pipelines totaling 10.8 miles, also in Weld County, Colorado.

The purpose of the Colorado Lateral Expansion Project is to provide an additional reliable source of natural gas to Greeley, Colorado. This project would add 57 million cubic feet per day of pipeline capacity from the Cheyenne Hub to distribution points in the Greeley market area.

The EA has been placed in the public files of the FERC. A limited number of copies of the EA are available for distribution and public inspection at: Federal Energy Regulatory Commission, Public Reference Room, 888 First Street NE., Room 2A, Washington, DC 20426.

Copies of the EA have been mailed to federal, state, and local agencies; public interest groups; newspapers and libraries in the project area; parties to the proceeding; and those who have expressed an interest in this project by returning the August 30, 2007 Notice of Intent to Prepare an Environmental Assessment for the Proposed Colorado Lateral Expansion Project and Request for Comments on Environmental Issues.

Any person wishing to comment on the EA may do so. To ensure consideration prior to a Commission decision on the proposal, it is important that we receive your comments as specified below. Please carefully follow these instructions to ensure that your comments are received in time and properly recorded:

• Send an original and two copies of your comments to: Kimberly D. Bose, Secretary, Federal Energy Regulatory Commission, 888 First Street NE., Room 1A, Washington, DC 20426;

• Label one copy of the comments for the attention of Gas Branch 1, PJ-11.1;

• Reference Docket No. CP07-430-000; and

• Mail your comments so that they will be received in Washington, DC on or before February 11, 2008.

The Commission strongly encourages electronic filing of any comments, interventions, or protests to this proceeding. See 18 CFR 385.2001(a)(1)(iii) and the instructions of the Commission's Web site at http://www.ferc.gov under the “e-Filing” link and the link to the User's Guide. Before you can file comments you will need to create a free account by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this EA. You must file your request to intervene as specified above.¹ You do not need intervenor status to have your comments considered.

¹ Interventions may also be filed electronically via the Internet in lieu of paper. See the previous discussion of filing comments electronically.

Additional information about the project is available from the Commission's Office of External Affairs, at 1-866-208-FERC or on the FERC Internet Web site (http://www.ferc.gov) using the eLibrary link. Click on the eLibrary link, click on “General Search” and enter the docket number excluding the last three digits in the docket number field (i.e., CP07-430). Be sure you have selected an appropriate date range. For assistance, please contact FERC Online Support at FERCOnlineSupport@ferc.gov or toll free at 1-866-208-3676, or for TTY, contact (202) 502-8659. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notifications of these filings, document summaries and direct links to the documents. Go to the eSubscription link on the FERC Internet website.

Kimberly D. Bose,
Secretary.

[FR Doc. E8-864 Filed 1-17-08; 8:45 am]

BILLING CODE 6717-01-P